DEPARTMENT OF DEFENSE

Office of the Secretary

[Transmittal No. 22-0K]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0K.

Dated: June 10, 2024.
Aaron T. Siegel,
Alternate OSD Federal Register Liaison Officer, Department of Defense.

BILLING CODE 6001-FR-P

BILLING CODE 6001-FR-C

Transmittal No. 22-0K

REPORT OF ENHANCEMENT OR UPGRADE OF SENSITIVITY OF TECHNOLOGY OR CAPABILITY (SEC. 36(B)(5)(C), AECA)

(i) Purchaser: Government of Japan

(ii) Sec. 36(b)(1), AECA Transmittal No.: 19-65

Date: October 29, 2019

Implementing Agency: Air Force

(iii) Description: On October 29, 2019, Congress was notified by Congressional certification transmittal number 19-65 of the possible sale, under Section 36(b)(1) of the Arms Export Control Act, of the upgrade of up to ninety-eight (98) F-15J aircraft to a Japanese Super Interceptor (JSI) configuration consisting of up to one hundred three (103) APG-82(v)1 Active Electronically Scanned Array (AESA) Radar (includes five (5) spares); one hundred sixteen (116) Advanced Display Core Processor II (ADCP II) Mission System Computer (includes eighteen (18) spares); and one hundred one (101) ALQ-239 Digital Electronic Warfare System (DEWS) (includes three (3) spares). Also included were Joint Mission Planning System (JMPS) with software, training and support; Selective Availability Anti-spoofing Module (SAASM); ARC-210 radio, aircraft and munition integration and test support; ground training devices (including flight and maintenance simulators); support and test equipment; software delivery and support; spare and repair parts; communications equipment; facilities and construction support; publications and technical documentation; personnel training and training equipment; U.S. Government and contractor engineering; technical and logistics support services; studies and surveys; and other related elements of logistical and program support. The estimated total program cost was $4.5 billion. Major Defense Equipment (MDE) constituted $2.4 billion of this total.

This transmittal reports the addition of the following MDE items: one hundred three (103) AN/ALQ-250 Eagle Passive Active Warning Survivability System (EPAWSS) Electronic Warfare (EW) suites. The total cost of new MDE articles is $956 million. This does not increase the total net cost of MDE, which will remain $2.4 billion. The total case value will not increase, remaining $4.5 billion.

(iv) Significance: The inclusion of this MDE represents an increase in capability over what was previously notified. The proposed articles and services will support Japan's defense of its airspace.

(v) Justification: This proposed sale will support the foreign policy goals and national security objectives of the United States by improving the security of a major ally that is a force for political stability and economic progress in the Asia-Pacific region. It is vital to the U.S. national interest to assist Japan in developing and maintaining a strong and effective self-defense capability.

(vi) Sensitivity of Technology: EPAWSS is an advanced all-digital EW suite which provides the F-15 with fully integrated radar warning, geolocation, situational awareness, and self-protection solutions to detect and defeat surface and airborne legacy, current, and future threats in highly contested, dense signal environments. EPAWSS is equipped with advanced Radio Frequency Electronic Countermeasures, enabling deeper penetration against modern integrated air defense systems and providing rapid response capabilities designed to protect the aircrew.

The highest level of classification of defense articles, components, and services included in this potential sale is UNCLASSIFIED.

(vii) Date Report Delivered to Congress: July 26, 2022

[FR Doc. 2024-12950 Filed 6-12-24; 8:45 am]

BILLING CODE 6001-FR-P